DEPARTMENT OF HEALTH AND HUMAN SERVICES

Centers for Disease Control and Prevention

Notice of Award of a Single-Source Cooperative Agreement To Fund Africa Centres for Disease Control and Prevention

AGENCY: Centers for Disease Control and Prevention (CDC), Department of Health and Human Services (HHS).

ACTION: Notice.

SUMMARY: The Centers for Disease Control and Prevention (CDC), located within the Department of Health and Human Services (HHS), announces the award of approximately $3,000,000 with an expected total funding of approximately $15,000,000 over a 5-year period, to Africa Centres for Disease Control and Prevention. This award will strengthen and reinforce Africa's public health systems to prevent, detect, and respond quickly and effectively to public health threats, using evidence-based programs and interventions.

DATES: The period for this award will be September 30, 2023, through September 29, 2028.

FOR FURTHER INFORMATION CONTACT: Prianca Reddi, Center for Global Health, Centers for Disease Control and Prevention, 1600 Clifton Rd., Atlanta, GA 30329. Telephone: 404-498-2117, Email: DGHPNOFOs@cdc.gov.

SUPPLEMENTARY INFORMATION: The single-source award will implement strategies to improve regional and national public health systems and institutions in Africa by strengthening surveillance systems, laboratory networks, information systems, workforce capacity, emergency response and preparedness, public health investigation capacities, and health promotion activities in Africa Centres for Disease Control and Prevention (Africa CDC). This award will also support establishment of strong management practices that will enable Africa CDC to more effectively coordinate and administer its activities. Africa CDC will efficiently manage its responsibilities through transparent and data-driven decision making, robust organizational capacities, and effective internal/external stakeholder communication.

Africa CDC is in a unique position to conduct this work, as it is the only agency that oversees public health for all 55 African countries that are Member States of the African Union and uniquely has the authority to mandate that countries report data about public health events, including cases of disease and outbreaks. Africa CDC's mandate also includes responsibility for the health security of African nations through the establishment and oversight of the public health emergency operations center; national public health laboratory; surveillance; workforce development and through the coordination of public and global health security.

Summary of the Award

Recipient: Africa Centres for Disease Control and Prevention.

Purpose of the Award: The purpose of this award is to strengthen and reinforce Africa's public health systems to prevent, detect, and respond quickly and effectively to public health threats, using evidence-based programs and interventions. The award will implement strategies to improve regional and national public health systems and institutions in Africa by strengthening surveillance systems, laboratory networks, information systems, workforce capacity, emergency response and preparedness, public health investigation capacities, and health promotion activities on the continent and regionally through Africa CDC.

Amount of Award: For Africa CDC the approximate year 1 award is $3,000,000 in Federal Fiscal Year (FFY) 2023 funds, with a total estimated $15,000,000 for the 5-year period of performance, subject to availability of funds. Funding amounts for years 2-5 will be set at continuation.

Authority: This program is authorized under Section 307 of the Public Health Service Act [42 U.S.C. 242l] and Section 301(a) [42 U.S.C. 241(a)] of the Public Health Service Act.

Period of Performance: September 30, 2023, through September 29, 2028.

Dated: February 15, 2023.
Terrance Perry,
Chief Grants Management Officer, Centers for Disease Control and Prevention.

[FR Doc. 2023-03530 Filed 2-17-23; 8:45 am]

BILLING CODE 4163-18-P